NATIONAL SCIENCE FOUNDATION

Advisory Committee for Engineering; Notice of Meeting

In accordance with the Federal Advisory Committee Act (Pub. L. 92-463, as amended), the National Science Foundation announces the following meeting:

Name and Committee Code: Advisory Committee for Engineering #1170.

Date and Time: April 17, 2018: 12:15 p.m. to 5:30 p.m.; April 18, 2018: 8:30 a.m. to 12:30 p.m.

Place: National Science Foundation, 2415 Eisenhower Avenue, Room E2030, Alexandria, Virginia 22314.

Type of Meeting: Open.

Contact Person: Evette Rollins, National Science Foundation, 2415 Eisenhower Avenue, Suite C14000, Alexandria, Virginia 22314; Telephone: 703-292-8300.

Purpose of Meeting: To provide advice, recommendations and counsel on major goals and policies pertaining to engineering programs and activities.

Agenda

Tuesday, April 17, 2018

• Directorate for Engineering Report

• NSF Budget Update

• Reports from Advisory Committee Liaisons

• Visioning for Engineering

Wednesday, April 18, 2018

• Roundtable on Strategic Recommendations for ENG

• Perspective from the Director's Office

• Navigating the New Arctic

Dated: March 19, 2018.
Crystal Robinson,
Committee Management Officer.

[FR Doc. 2018-05820 Filed 3-21-18; 8:45 am]

BILLING CODE 7555-01-P